INTER-AMERICAN FOUNDATION

Sunshine Act Meetings

Time and Date: May 22, 2017, 11:00 a.m.-12:00 p.m.

Place: Via tele-conference hosted at Inter-American Foundation, 1331 Pennsylvania Ave. NW., Suite 1200, North Building, Washington, DC 20004.

Status: Meeting of the Board of Directors, Open to the Public.

Matters to be Considered Resolution to Approve 2018-2022 Strategic Plan.

For Dial-in Information Contact: Karen Vargas, Executive Assistant, (202) 524-8869.

Contact Person for More Information: Paul Zimmerman, General Counsel, (202) 683-7118.

Paul Zimmerman,
General Counsel.

[FR Doc. 2017-09824 Filed 5-11-17; 11:15 am]

BILLING CODE 7025-01-P